SECURITIES AND EXCHANGE COMMISSION

[File No. 500-1]

Guar Global Ltd.; Order of Suspension of Trading

December 6, 2013.

It appears to the Securities and Exchange Commission that the public interest and the protection of investors require a suspension of trading in the securities of Guar Global Ltd. (“Guar Global”) because of concerns regarding the accuracy and adequacy of information in the marketplace and potentially manipulative transactions in Guar Global's common stock. Guar Global is a Nevada corporation based in McKinney, Texas. It is quoted on OTC Link under the symbol GGBL.

The Commission is of the opinion that the public interest and the protection of investors require a suspension of trading in the securities of the above-listed company.

Therefore, it is ordered, pursuant to Section 12(k) of the Securities Exchange Act of 1934, that trading in the securities of the above-listed company is suspended for the period from 9:30 a.m. EST on December 6, 2013 through 11:59 p.m. EST on December 19, 2013.

By the Commission.
Elizabeth M. Murphy,
Secretary.

[FR Doc. 2013-29529 Filed 12-6-13; 4:15 pm]

BILLING CODE 8011-01-P